DEPARTMENT OF THE TREASURY

Fiscal Service

31 CFR Parts 317 and 358

Regulations Governing United States Securities

AGENCY: Bureau of the Fiscal Service, Fiscal Service, Treasury.

ACTION: Final rule.

SUMMARY: The United States Department of the Treasury, Bureau of the Fiscal Service, is streamlining its securities regulations by removing regulations that are no longer necessary because they do not have any current or future applicability.

DATES: Effective December 20, 2018.

ADDRESSES: You can download this final rule at the following internet addresses: http://www.regulations.gov, http://www.gpo.gov, or http://www.fiscal.treasury.gov.

FOR FURTHER INFORMATION CONTACT: Lisa Martin, Attorney-Advisor, Office of the Chief Counsel, (304) 480-8697.

SUPPLEMENTARY INFORMATION:

I. Background

On February 24, 2017, the President issued Executive Order 13777, Enforcing the Regulatory Reform Agenda (82 FR 12285). E.O. 13777 directed each agency to establish a Regulatory Reform Task Force. Each Regulatory Reform Task Force was directed to review existing regulations that: (i) Eliminate jobs, or inhibit job creation; (ii) are outdated, unnecessary, or ineffective; (iii) impose costs that exceed benefits; (iv) create a serious inconsistency or otherwise interfere with regulatory reform initiatives and policies; (v) are inconsistent with the requirements of the Information Quality Act (section 515 of the Treasury and General Government Appropriations Act of 2001) or OMB Information Quality Guidance issued pursuant to that provision; or (vi) derive from or implement Executive Orders or other Presidential directives that have been subsequently rescinded or substantially modified.

II. Explanation of Provisions

In this rulemaking, the Department of the Treasury (Treasury) is eliminating two categories of securities regulations that are no longer necessary. The first category, published at 31 CFR part 317, governs the manner in which an organization may qualify and act as an agent for the sale and issue of Series EE and Series I United States Savings Bonds. These regulations are unnecessary because Treasury stopped selling savings bonds at financial institutions in January 2012 and no longer issues savings bonds through issuing agents. The second category, published at 31 CFR part 358, governs the conversion of stripped bearer securities into book-entry securities that can be held in commercial book-entry accounts with brokers and financial institutions. These regulations are unnecessary because the last bearer security eligible for conversion was called in November 2006, and the conversion program has ended. Accordingly, the regulations in parts 317 and 358 are being removed.

III. Procedural Requirements

A. Administrative Procedure Act (APA)

Because this rule relates to United States securities, which are contracts between Treasury and the owner of the security, this rule falls within the contract exception to the APA at 5 U.S.C. 553(a)(2). Notice and comment rulemaking is not required.

B. Congressional Review Act (CRA)

This rule is not a major rule pursuant to the CRA, 5 U.S.C. 801 et seq. It is not expected to lead to any of the results listed in 5 U.S.C. 804(2). This rule may take immediate effect after we submit a copy of it to Congress and the Comptroller General.

C. Paperwork Reduction Act (PRA)

There is no new collection of information contained in this final rule that would be subject to the PRA, 44 U.S.C. 3501 et seq. Under the PRA, an agency may not conduct or sponsor, and a person is not required to respond to, a collection of information unless it displays a valid OMB control number.

D. Regulatory Flexibility Act

The Regulatory Flexibility Act, 5 U.S.C. 601 et seq., does not apply to this rule because, pursuant to 5 U.S.C. 553(a)(2), issuance does not require notice and opportunity for public comment. Nonetheless, this rule will not have a significant economic impact on a substantial number of small entities.

E. Executive Order 12866

This rule is not a significant regulatory action pursuant to Executive Order 12866.

List of Subjects

31 CFR Part 317

Government securities, Savings bonds.

31 CFR Part 358

Government securities.

Amendments to the Regulations

Accordingly, under the authority of 31 U.S.C. 3121, 31 CFR chapter II is amended as follows:

PART 317—[REMOVED AND RESERVED]

1. Part 317 is removed and reserved.

PART 358—[REMOVED AND RESERVED]

2. Part 358 is removed and reserved.

David A. Lebryk,
Fiscal Assistant Secretary.

[FR Doc. 2018-27545 Filed 12-19-18; 8:45 am]

BILLING CODE 4810-AS-P